INTERNATIONAL TRADE COMMISSION

[Investigation No. 337-TA-1165]

Certain Barcode Scanners, Scan Engines, Products Containing the Same, and Components Thereof; Notice of Commission Decision Not To Review an Initial Determination Terminating the Investigation Based on Settlement; Termination of the Investigation

AGENCY: U.S. International Trade Commission.

ACTION: Notice.

SUMMARY: Notice is hereby given that the U.S. International Trade Commission has determined not to review an initial determination (“ID”) (Order No. 26) of the presiding administrative law judge (“ALJ”) terminating the investigation based on settlement. The investigation is terminated.

FOR FURTHER INFORMATION CONTACT: Houda Morad, Office of the General Counsel, U.S. International Trade Commission, 500 E Street SW, Washington, DC 20436, telephone (202) 708-4716. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: On July 2, 2019, the Commission instituted this investigation under section 337 of the Tariff Act of 1930, as amended, 19 U.S.C. 1337 (“section 337”), based on a complaint filed by Honeywell International, Inc. of Morris Plains, New Jersey; Hand Held Products, Inc. of Fort Mill, South Carolina; and Metrologic Instruments, Inc. of Fort Mill, South Carolina. See 84 FR 31619-20 (July 2, 2019). The complaint, as supplemented, alleges violations of section 337 based upon the importation into the United States, the sale for importation, and the sale within the United States after importation of certain barcode scanners, scan engines, products containing the same, and components thereof, by reason of infringement of certain claims of U.S. Patent Nos. 9,465,970; 8,978,985; 7,148,923; 7,527,206; 9,659,199; and 7,159,783. See id. at 31619. The notice of investigation names the following respondents: Opticon, Inc. of Renton, Washington; Opticon Sensors Europe B.V. of Hoofddorp, The Netherlands; OPTO Electronics Co., Ltd. of Warabi, Japan; and Hokkaido Electronic Industry Co., Ltd. of Ashibetsu-shi, Japan. See id. The Office of Unfair Import Investigations is not a party to the investigation.

On February 18, 2020, the parties filed a joint motion to terminate the investigation based on settlement. On February 27, 2020, the ALJ issued the subject ID (Order No. 26) granting the joint motion. In accordance with Commission Rule 210.21(b)(1), 19 CFR 210.21(b)(1), the motion includes redacted and unredacted copies of the settlement agreement. See ID at 3. In addition, as noted in the ID, the motion includes a statement that “there are no other agreements, written or oral, express or implied, between [the parties] concerning the subject matter of this Investigation.” See id. Furthermore, in accordance with Commission Rule 210.50(b)(2), 19 CFR 210.50(b)(2), the ID finds that “termination of this Investigation on the basis of the Settlement Agreement would not be contrary to the public health and welfare, competitive conditions in the U.S. economy, the production of like or directly competitive articles in the United States, or U.S. consumers.” Id. The ID further finds that “termination of this Investigation is in the public interest and will conserve public and private resources.” Id. No petition for review of the subject ID was filed.

The Commission has determined not to review the subject ID. The investigation is terminated.

The authority for the Commission's determination is contained in section 337 of the Tariff Act of 1930, as amended (19 U.S.C. 1337), and in part 210 of the Commission's Rules of Practice and Procedure (19 CFR part 210).

By order of the Commission.
Issued: March 13, 2020.
Lisa Barton,
Secretary to the Commission.

[FR Doc. 2020-05622 Filed 3-17-20; 8:45 am]

BILLING CODE 7020-02-P